DEPARTMENT OF HEALTH AND HUMAN SERVICES

Health Resources and Services Administration

Supplement to National Technical Resource Center for the Newborn Hearing Screening and Intervention Program at the Utah State University

AGENCY: Health Resources and Services Administration (HRSA), Department of Health and Human Services (HHS).

ACTION: Notice of Supplement to National Technical Resource Center for the Newborn Hearing Screening and Intervention Program at the Utah State University—Grant Number U52MC04391.

SUMMARY: HRSA announces the award of a supplement in the amount of $300,000 for the National Technical Resource Center (NTRC) for the Newborn Hearing Screening and Intervention program cooperative agreement. Funding in future years is contingent upon satisfactory performance of the recipient, need, and availability of funds.

The purpose of the NTRC is to address new research, approaches, and practice advances in the fields of family engagement, early language acquisition, and early literacy. The supplement will fund Utah State University, the cooperative agreement recipient, during the budget periods of the supplement 4/1/2016-3/31/2020, to respond to changes in research, policy, technology, and practice in the newborn hearing screening field in the areas of family engagement, early language acquisition, and early literacy. Funding in FY 2017, FY 2018, and FY 2019, is contingent upon appropriations, satisfactory performance of the recipient, need, and availability of funds.

SUPPLEMENTARY INFORMATION: Intended Recipient of the Award: Utah State University.

Amount of Non-Competitive Awards: $300,000.

Period of Supplemental Funding: 4/1/2016-3/31/2020.

CFDA Number: 93.251.

Authority: Public Health Service Act, § 399M, as added by § 702 of the Children's Health Act of 2000 (Pub. L. 106-310) and amended by § 2 of the Early Hearing Detection and Intervention Act of 2010 (Pub. L. 111-337) (42 U.S.C. 280g-1)

JUSTIFICATION: In 2015, following an objective review of its applications, HRSA awarded the NTRC for the Newborn Hearing Screening and Intervention program cooperative agreement to Utah State University, a state institution of higher education.

Authorized by the Public Health Service Act, § 399M, as added by the Children's Health Act of 2000, § 702 (Pub. L. 106-310) and further amended by § 2 of the Early Hearing Detection and Intervention Act of 2010 (Pub. L. 111-337) (42 U.S.C. 280g-1), the purpose of the Universal Newborn Hearing Screening (UNHS) program is to utilize specifically targeted and measurable interventions to increase the number of infants who are followed up for rescreening, referral, and intervention after not passing a physiologic newborn screening examination prior to discharge from the newborn nursery.

As stated in the funding opportunity announcement (FOA) HRSA 15-085, the focus of the NTRC is to provide to state Early Hearing Detection and Intervention (EHDI) programs training and technical assistance for planning, policy development, implementing innovations, and quality improvement methodology to reduce their loss to follow-up rate/loss to documentation, i.e. the number of infants who do not receive timely and appropriate screening follow-up and coordinated interventions.

Since the publication of the FOA on September 9, 2014, many changes in research, policy, technology, and practice have occurred in the newborn hearing screening field in the areas of family engagement, early language acquisition, and early literacy. The NTRC cooperative agreement must address these changes to provide appropriate training and technical assistance. The Maternal and Child Health Bureau (MCHB) proposes to supplement the recipient in FY 2016 and 2017 to address new research, approaches, and practice advances in the field of family engagement. MCHB proposes to supplement the recipient in FY 2018 and 2019 to address the latest research findings and advances related to early language acquisition and early literacy. Funding in FY 2017, FY 2018, and FY 2019 is contingent upon appropriations, satisfactory performance of the recipient, need, and availability of funds.

According to the National Institute for Children's Health Quality, families have a unique perspective on how the system currently affects them personally and can provide invaluable viewpoints on the steps that can be implemented to improve the system. Since the system exists to meet the needs of the deaf or hard of hearing infants and children, it is critical that their parents and families' viewpoints are acknowledged and leveraged. MCHB recommends greater representation of individuals who are deaf or hard of hearing throughout the NTRC as well as providing opportunities for families of deaf or hard of hearing children to become leaders within the EHDI system.

To address these deficiencies, Utah State University submitted a prior approval request for funds to improve its family engagement. The NTRC will take a streamlined and targeted approach toward engaging families and family based organizations in its work. Though not introducing new services or activities, the NTRC will use the supplemental funds to refine its current services and activities to:

1. Increase and refocus the family advisory committee to be more reflective of families who have a deaf or hard of hearing child;

2. Target the NTRC's scholarship program toward greater family engagement and leadership development;

3. Enhance family engagement in EHDI quality improvement activities; and

4. Increase the NTRC's financial and programmatic support for the work by Hands & Voices to strengthen family engagement in EHDI programs.

This will be the second supplement for this cooperative agreement.

FOR FURTHER INFORMATION CONTACT: Sadie Silcott, MBA, MPH, Division of Services for Children with Special Health Needs, Maternal and Child Health Bureau, Health Resources and Services Administration, 5600 Fishers Lane, Room 18W57, Rockville, Maryland 20857; Phone: (301) 443-0133; Email: ssilcott@hrsa.gov.

Dated: September 2, 2016.
James Macrae,
Acting Administrator.

[FR Doc. 2016-21711 Filed 9-14-16; 8:45 am]

BILLING CODE 4165-15-P